DEPARTMENT OF COMMERCE

National Institute of Standards and Technology

Manufacturing Extension Partnership (MEP) Advisory Board

AGENCY: National Institute of Standards and Technology, Department of Commerce.

ACTION: Notice of open meeting.

SUMMARY: National Institute of Standards and Technology's (NIST) Manufacturing Extension Partnership (MEP) Advisory Board will hold an open meeting on September 16, 2024, from 10 a.m. to 5 p.m. eastern time.

DATES: The MEP Advisory Board will meet on September 16, 2024, from 10 a.m. to 5 p.m. eastern time. The meeting will be open to the public. Attendees are required to register in advance to attend as instructed below.

ADDRESSES: The meeting will be held in person at the Manufacturing Advocacy and Growth Network (MAGNET) office: 1800 East 63rd Street, Cleveland, OH 44103. For instructions on how to attend the meeting, please see the Procedures for Attendance and Public Comment section of this notice.

FOR FURTHER INFORMATION CONTACT: Monica Claussen, DFO, 100 Bureau Drive, M/S 4800, Gaithersburg, MD 20899-4800; email: mepab@nist.gov, phone number: 301-975-5020.

SUPPLEMENTARY INFORMATION: The MEP Advisory Board is authorized under 15 U.S.C. 278k(m). The Hollings Manufacturing Extension Partnership Program (Program) is a unique program consisting of Centers in all 50 States and Puerto Rico with partnerships at the Federal, State and local levels. By statute, the MEP Advisory Board provides the NIST Director with: (1) advice on the activities, plans and policies of the Program; (2) assessments of the soundness of the plans and strategies of the Program; and (3) assessments of current performance against the plans of the Program.

Background information on the MEP Advisory Board is available at http://www.nist.gov/mep/about/advisory-board.cfm.

Pursuant to the Federal Advisory Committee Act, as amended, 5 U.S.C. 1001 et seq., notice is hereby given that the MEP Advisory Board will hold an open meeting on the date and time in the DATES section and will be open to the public. The meeting agenda will include an update on MEP programmatic operations as well as current activities related to the current MEP National Network 2023-2027 Strategic Plan. The agenda may change to accommodate Board business. The final agenda will be posted on the MEP Advisory Board website at http://www.nist.gov/mep/about/advisory-board.

Individuals and representatives of organizations who would like to offer comments and suggestions related to the Board's agenda for this meeting are requested to submit written comments via email in advance of the meeting. Approximately ten minutes will be reserved for public comments that were submitted in advance. These will be read on a first-come, first-served basis. Comments received will be shared to the Board by the Director of MEP, pending time available during the Board meeting. Please note that all submitted comments, including those not read during the meeting, will be treated as public documents and will be made available for public inspection via the meeting minutes. The Board will not consider or deliberate on comments from the public during this period. All those wishing to submit a comment, must submit their comment via email to mepab@nist.gov by 5 p.m. eastern time, Friday, September 6, 2024.

Procedures for Attendance and Public Comment

All wishing to attend the MEP Advisory Board meeting must submit their name, organization, email address and phone number to Monica Claussen (mepab@nist.gov or 301-975-5020) no later than Friday, September 6, 2024, 5 p.m. eastern time. In person seating is limited and will be available on a first-come, first-served basis. Detailed instructions on how to attend the meeting will be sent to registered attendees.

Tamiko Ford,
NIST Executive Secretariat.

[FR Doc. 2024-18449 Filed 8-16-24; 8:45 am]

BILLING CODE 3510-13-P